FINANCIAL CRISIS INQUIRY COMMISSION

Notice of Public Hearing

AGENCY: Financial Crisis Inquiry Commission.

ACTION: Notice.

SUMMARY: The Financial Crisis Inquiry Commission (FCIC) announces that it will hear from public and private sector entities in a hearing titled “Subprime Lending and Securitization and Government-Sponsored Enterprises (GSEs).” Hearing sessions will include the following entities: The Board of Governors of the Federal Reserve System, Citigroup, Fannie Mae, the Federal Housing Finance Agency (FHFA) and its predecessors, the Federal Housing Finance Board (FHFB) and the Office of Federal Housing. The forum will also be webcast live at http://www.FCIC.gov.

DATES: The hearing will be held on:

Wednesday, April 7, 2010, 9 a.m. EDT;

Thursday, April 8, 2010, 9 a.m. EDT; and

Friday, April 9, 2010, 9 a.m. EDT

ADDRESSES: The hearing will be held at: 2123 Rayburn House Office Building (Committee on Energy and Commerce), Washington, DC 20515.

FOR FURTHER INFORMATION CONTACT: Gretchen Kinney Newsom, Financial Crisis Inquiry Commission, 1717 Pennsylvania Avenue, Suite 800, Washington, DC 20006, 202-292-2799; 202-632-1604 fax.

SUPPLEMENTARY INFORMATION: The purpose of the Financial Crisis Inquiry Commission is to examine the causes, domestic and global, of the current financial and economic crisis in the United States, per the requirements of the Fraud Enforcement and Recovery Act of 2009 (FERA), Section 5, Public Law 111-21,123 Stat. 1617 (2009).

Public Participation: The meeting is open to the public. The Chairman of the Commission will lead the hearing for the orderly conduct of business.

Dated: March 26, 2010.
Gretchen Kinney Newsom,
Certifying Official and Special Assistant to the Chairman, Financial Crisis Inquiry Commission.

[FR Doc. 2010-7291 Filed 3-31-10; 8:45 am]

BILLING CODE 6820-RK-P